DEPARTMENT OF THE TREASURY

Office of Foreign Assets Control

Sanctions Actions Pursuant to the Foreign Narcotics Kingpin Designation Act and Executive Order 12978

AGENCY: Office of Foreign Assets Control, Treasury.

ACTION: Notice.

SUMMARY: The U.S. Department of the Treasury's Office of Foreign Assets Control (OFAC) is publishing the names of persons and entities whose property and interests in property have been unblocked pursuant to the Foreign Narcotics Kingpin Designation Act (Kingpin Act) or Executive Order 12978 of October 21, 1995, “Blocking Assets and Prohibiting Transactions with Significant Narcotics Traffickers”. Additionally, OFAC is publishing an update to the identifying information of one person currently included in the list of Specially Designated Nationals and Blocked Persons (SDN List).

DATES: OFAC's actions described in this notice were effective on March 31, 2017.

FOR FURTHER INFORMATION CONTACT: The Department of the Treasury's Office of Foreign Assets Control: Assistant Director for Licensing, tel.: 202-622-2480, Assistant Director for Regulatory Affairs, tel.: 202-622-4855, Assistant Director for Sanctions Compliance & Evaluation, tel.: 202-622-2490; or the Department of the Treasury's Office of the Chief Counsel (Foreign Assets Control), Office of the General Counsel, tel.: 202-622-2410.

SUPPLEMENTARY INFORMATION:

Electronic Availability

The list of Specially Designated Nationals and Blocked Persons (SDN List) and additional information concerning OFAC sanctions programs are available from OFAC's Web site at http://www.treasury.gov/ofac.

Notice of OFAC Actions

On March 31, 2017, OFAC removed from the SDN List the persons listed below, whose property and interests in property were blocked pursuant to section 805(b) of the Kingpin Act or Executive Order 12978.

Individuals

1. CASTRO DE SANTACRUZ, Amparo, c/o INMOBILIARIA SAMARIA LTDA., Cali, Colombia; c/o SAMARIA LTDA., Cali, Colombia; c/o INVERSIONES SANTA LTDA., Cali, Colombia; c/o COMERCIALIZACION Y FINANCIACION DE AUTOMOTORES S.A., Cali, Colombia; c/o INVERSIONES INTEGRAL LTDA., Cali, Colombia; c/o MIRALUNA LTDA., Cali, Colombia; c/o URBANIZACIONES Y CONSTRUCCIONES LTDA., DE CALI, Cali, Colombia; DOB 13 Jan 1948; alt. DOB 13 Jan 1946; alt. DOB 14 Apr 1959; Cedula No. 38983611 (Colombia); Passport PE027370 (Colombia); alt. Passport AA429676 (Colombia) (individual) [SDNT].

2. CONTRERAS SANCHEZ, Diego; DOB 19 Apr 1985; POB Jalisco, Mexico; R.F.C. COSD850419T13 (Mexico); C.U.R.P. COSD850419HJCNNG02 (Mexico) (individual) [SDNTK] (Linked To: RESTAURANT BAR LOS ANDARIEGOS, S.A. DE C.V.; Linked To: BOCADOS DE AUTOR, S.A. DE C.V.).

3. CONTRERAS SANCHEZ, Maria Aurora, Av. Hidalgo No. 2433, Colonia Vallarta Norte, Guadalajara, Jalisco, Mexico; 3888 Paseo de los Parques, Colonia Colinas de San Javier, Zapopan, Jalisco, Mexico; DOB 25 Oct 1979; POB Guadalajara, Jalisco, Mexico; R.F.C. COSA791025645 (Mexico) (individual) [SDNTK] (Linked To: INMOBILIARIA CORSANCH, S.A. DE C.V.).

4. DELAROSA RAMOS, Jibran (a.k.a. DE LA ROSA RAMOS, Jibran); DOB 10 Mar 1984; POB Juan Galindo, Mexico; Passport G01255779 (Mexico) (individual) [SDNTK] (Linked To: NETLLUX MOVIL S.A. DE C.V.).

5. GALLEGO SOSSA, Rosa Esperanza, Calle 24AN No. 42BN-61, Cali, Colombia; c/o CONCRETOS CALI S.A., Cali, Colombia; c/o CONSTRUCTORA DIMISA LTDA., Cali, Colombia; DOB 01 May 1963; Cedula No. 43059188 (Colombia) (individual) [SDNT].

6. GIL GARZON, Marco Antonio, c/o CONSTRUCTORA AMERICA S.A., Bogota, Colombia; DOB 25 May 1947; POB Toca, Boyaca, Colombia; Cedula No. 17176949 (Colombia) (individual) [SDNT].

7. GRAJALES LEMOS, Aida Salome, Calle 14 No. 13-03, La Union, Valle, Colombia; c/o AGRONILO S.A., Toro, Valle, Colombia; c/o ALMACAES S.A., Bogota, Colombia; c/o CRETA S.A., La Union, Valle, Colombia; c/o CASA GRAJALES S.A., La Union, Valle, Colombia; c/o GAD S.A., La Union, Valle, Colombia; c/o GRAJALES S.A., La Union, Valle, Colombia; c/o HOTEL LOS VINEDOS, La Union, Valle, Colombia; c/o MACEDONIA LTDA., La Union, Valle, Colombia; c/o RAMAL S.A., Bogota, Colombia; c/o SALIM S.A., La Union, Valle, Colombia; c/o FRUTAS DE LA COSTA S.A., Malambo, Atlantico, Colombia; c/o TARRITOS S.A., Cali, Colombia; c/o FUNDACION CENTRO DE INVESTIGACION HORTIFRUTICOLA DE COLOMBIA, La Union, Valle, Colombia; c/o JEHOVA LTDA., Tulua, Valle, Colombia; DOB 13 Dec 1970; POB La Union, Valle, Colombia; Cedula No. 39789871 (Colombia) (individual) [SDNT].

8. POSSO DE GRAJALES, Elba Myriam, c/o CASA GRAJALES S.A., La Union, Valle, Colombia; c/o FREXCO S.A., La Union, Valle, Colombia; c/o GRAJALES S.A., La Union, Valle, Colombia; c/o IBADAN LTDA., Tulua, Valle, Colombia; c/o INVERSIONES AGUILA LTDA., La Union, Valle, Colombia; Cedula No. 29611241 (Colombia) (individual) [SDNT].

9. QUINTANA FUERTES, Andres Fernando; DOB 03 Jul 1966; POB Candelaria, Valle, Colombia; nationality Colombia; citizen Colombia; Cedula No. 16989000 (Colombia); Passport AI375038 (Colombia); alt. Passport 16989000 (Colombia) expires 13 Dec 2000 (individual) [SDNT] (Linked To: TARRITOS S.A.).

10. ROSALES MORFIN, Eva Luz, 3888 Calle Paseo de los Parques, La Colonia Colinas de San Javier, Zapopan, Jalisco, Mexico; DOB 11 Apr 1968; POB Guadalajara, Jalisco, Mexico; Passport G01626402 (Mexico); R.F.C. ROME6804111R9 (Mexico) (individual) [SDNTK] (Linked To: INMOBILIARIA CORSANCH, S.A. DE C.V.).

11. SANTACRUZ CASTRO, Ana Milena, c/o SOCIEDAD CONSTRUCTORA LA CASCADA S.A., Cali, Colombia; c/o COMERCIALIZACION Y FINANCIACION DE AUTOMOTORES S.A., Cali, Colombia; c/o INVERSIONES INTEGRAL LTDA., Cali, Colombia; c/o MIRALUNA LTDA., Cali, Colombia; c/o URBANIZACIONES Y CONSTRUCCIONES LTDA., DE CALI, Cali, Colombia; DOB 31 Mar 1965; Cedula No. 31929808 (Colombia); Passport 31929808 (Colombia); alt. Passport AB151189 (Colombia) (individual) [SDNT].

Entities

1. COMERCIALIZACION Y FINANCIACION DE AUTOMOTORES S.A. (a.k.a. COMFIAUTOS S.A.), Carrera 4 No. 11-33 of. 303, Cali, Colombia; Avenida 2N No. 7N-55 of. 609, Cali, Colombia; NIT # 800086115-1 (Colombia) [SDNT].

2. INVERSIONES INTEGRAL LTDA., Carrera 4 No. 12-41 of. 1403, 1501 Edificio Seguros Bolivar, Cali, Colombia; Apartado Aereo 10077, Cali, Colombia; NIT # 800092770-9 (Colombia) [SDNT].

3. LE MALL-SAIDA (a.k.a. LE MALL SAIDA), Saida, Al Janub, Lebanon [SDNTK] (Linked To: MERHI, Merhi Ali Abou; Linked To: ABOU MERHI GROUP).

4. MIRALUNA LTDA. (f.k.a. EL PASO LTDA.), Carrera 4 No. 12-41 of. 1403, 1501, Cali, Colombia; NIT # 890328836-9 (Colombia) [SDNT].

5. NEGOCIOS LOS SAUCES LTDA. Y CIA. S.C.S. (f.k.a. INMOBILIARIA SAMARIA LTDA.), Calle 13A 64-50 F102, Cali, Colombia; Carrera 4 12-41 of. 1501, Edificio Seguros Bolivar, Cali, Colombia; Calle 13 3-32 piso 13, Cali, Colombia; Calle 18, No. 106-96 of. 201/202, Cali, Colombia; NIT # 890937859-0 (Colombia) [SDNT].

6. NEGOCIOS LOS SAUCES LTDA., Carrera 4 No. 4-21 of. 1501, Edificio Seguros Bolivar, Cali, Colombia; Apartado Aereo 10077, Cali, Colombia; NIT # 890328835-1 (Colombia) [SDNT].

7. NETLLUX MOVIL S.A. DE C.V., Boulevard Hermanos Serdan No. 45 Penthouse, Colonia Amor, Puebla CP. 72140, Mexico [SDNTK].

8. URBANIZACIONES Y CONSTRUCCIONES LTDA. DE CALI (f.k.a. URBANIZACIONES Y CONSTRUCCIONES LTDA.), Carrera 4 No. 12-41 of. 1403, Cali, Colombia; NIT # 890306569-2 (Colombia) [SDNT].

Additionally, on March 31, 2017, OFAC updated the SDN listing for the person listed below, whose property and interests in property continue to be blocked pursuant to the Kingpin Act.

MERHI, Merhi Ali Abou (a.k.a. ABOU MERHI, Merhi; a.k.a. MERHI, Merhi Abou); DOB 05 Jul 1964; POB Hilalie, Lebanon; citizen Lebanon; Passport RL0575682 (Lebanon) (individual) [SDNTK] (Linked To: ABOU MERHI GROUP; Linked To: ABOU-MERHI LINES SAL; Linked To: ABOU-MERHI CRUISES SAL; Linked To: LE MALL-SAIDA; Linked To: QUEEN STATIONS; Linked To: ORIENT QUEEN HOMES; Linked To: ABOU MERHI COTONOU; Linked To: ABOU MERHI NIGERIA; Linked To: ABOU MERHI HAMBURG; Linked To: LEBANON CENTER; Linked To: ABOU MERHI CHARITY INSTITUTION).

-to-

MERHI, Merhi Ali Abou (a.k.a. ABOU MERHI, Merhi; a.k.a. MERHI, Merhi Abou); DOB 05 Jul 1964; POB Hilalie, Lebanon; citizen Lebanon; Passport RL0575682 (Lebanon) (individual) [SDNTK] (Linked To: ABOU MERHI GROUP; Linked To: ABOU-MERHI LINES SAL; Linked To: ABOU-MERHI CRUISES SAL; Linked To: QUEEN STATIONS; Linked To: ORIENT QUEEN HOMES; Linked To: ABOU MERHI COTONOU; Linked To: ABOU MERHI NIGERIA; Linked To: ABOU MERHI HAMBURG; Linked To: LEBANON CENTER; Linked To: ABOU MERHI CHARITY INSTITUTION).

Dated: March 31, 2017.
Gregory T. Gatjanis,
Associate Director, Office of Global Targeting, Office of Foreign Assets Control.

[FR Doc. 2017-06792 Filed 4-5-17; 8:45 am]

BILLING CODE 4810-AL-P